COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products and services previously furnished by such agencies.

DATES: Effective August 15, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On May 14, 2004, the Committee for Purchase From People Who Are Blind or Severely Disabled published notice (69 FR 26805) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Internal Revenue Service Building, 106 S. 15th Street, Omaha, Nebraska.

NPA: Goodwill Specialty Services, Inc., Omaha, Nebraska.

Contract Activity: GSA, PBS—Region 6, Kansas City, Missouri.

Service Type/Location: Custodial Services, Judiciary Square, 633 3rd Street, NW, Washington, DC.

NPA: Melwood Horticultural Training Center, Upper Marlboro, Maryland.

Contract Activity: GSA, PBS, National Capitol Region, Washington, DC.

Deletions

On April 20, May 14, and May 21, 2004, the Committee for Purchase From People Who Are Blind or Severely Disabled published notice (69 FR 23723, 26805, and 29261) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Product/NSN: Pen, Pilot Explorer and Refills

7510-01-425-5703 (Refill, Black)

7510-01-425-5716 (Refill, Blue)

7520-01-424-4862 (Pen)

NPA: San Antonio Lighthouse, San Antonio, Texas.

Contract Activity: Office Supplies & Paper Products Acquisition Center, New York, New York.

Services

Service Type/Location: Janitorial/Custodial, Federal Building & U.S. Post Office, Dyersburg, Tennessee.

NPA: Madison Haywood Developmental Services, Jackson, Tennessee.

Contract Activity: General Services Administration. Birmingham, Alabama.

Service Type/Location: Toner Cartridge Remanufacturing, Veterans Affairs Medical Center, Seattle, Washington.

NPA: Community Option Resource Enterprises, Inc., Billings, Montana.

Contract Activity: Department of Veterans Affairs, Washington, DC.

Sheryl D. Kennerly,
Director, Information Management.

[FR Doc. 04-16189 Filed 7-15-04; 8:45 am]

BILLING CODE 6353-01-P